FEDERAL COMMUNICATIONS COMMISSION

[OMB 3060-0743; FR ID 263012]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before January 24, 2025. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-0743.

Title: Implementation of the Pay Telephone Reclassification and Compensation Provisions of the Telecommunications Act of 1996, CC Docket No. 96-128.

Form Number: N/A.

Type of Review: Extension of a currently approved collection.

Respondents: Business or other for-profit.

Number of Respondents and Responses: 4,471 respondents; 10,071 responses.

Estimated Time per Response: .50-100 hours.

Frequency of Response: On occasion, monthly and quarterly reporting requirements, recordkeeping requirement and third party disclosure requirement.

Obligation to Respond: Required to obtain or retain benefits. Statutory authority for this collection of information is contained in 47 U.S.C. 276 of the Telecommunications Act of 1996.

Total Annual Burden: 118,137 hours.

Need and Uses: This collection of information implements the following requirements under section 276 of the Telecommunications Act of 1996. They are: (a) state showing of proof of market failure for exception to market-rate local coin call requirement; (b) state review of adequacy of provision of public interest payphone; (c) payphone providers' transmission of specific payphone coding digits; (d) LEC verification of disputed ANIS and maintaining and making available the verification data; (e) LEC timely notification of payphone disconnection; (f) LEC indication on the payphone's monthly bill that the amount due is for payphone service; (g) LEC tariff filing; (h) reclassification of LEC-owned payphones; (i) payphone provider's verification of its status to payer of compensation; (j) payphone providers' posting of local coin call rate on each payphone placard; and (k) LEC provision of emergency numbers to carrier-payers.

Federal Communications Commission.
Marlene Dortch,
Secretary, Office of the Secretary.

[FR Doc. 2024-27559 Filed 11-22-24; 8:45 am]

BILLING CODE 6712-01-P